DEPARTMENT OF THE INTERIOR

Bureau of Ocean Energy Management

[Docket No. BOEM-2014-0001]

Final Environmental Impact Statement for the Cook Inlet Outer Continental Shelf Oil and Gas Lease Sale 244; MMAA104000

AGENCY: Bureau of Ocean Energy Management (BOEM), Interior.

ACTION: Notice of availability of a final environmental impact statement.

SUMMARY: BOEM is announcing the availability of the Final Environmental Impact Statement (Final EIS) for the Cook Inlet Outer Continental Shelf Oil and Gas Lease Sale 244 (Cook Inlet Lease Sale 244). The Final EIS offers a discussion of potential impacts of the proposed action, provides an analysis of reasonable alternatives to the proposed action, and identifies the Bureau's preferred alternative.

The Final EIS is available on the agency Web site at http://www.boem.gov/Sale-244/. BOEM will primarily distribute digital copies of the Final EIS on compact discs. You may request a paper copy or the location of a library with a digital copy of the Final EIS from BOEM, Alaska OCS Region, 3801 Centerpoint Drive, Suite 500, Anchorage, Alaska 99503-5823, (907) 334-5200.

FOR FURTHER INFORMATION CONTACT: For more information on the Cook Inlet Lease Sale 244 Final EIS, you may contact Sharon Randall, Bureau of Ocean Energy Management, Alaska OCS Region, 3801 Centerpoint Drive, Suite 500, Anchorage, Alaska 99503-5823; (907) 334-5200.

Authority: This Notice of Availability for the Final EIS is in compliance with the National Environmental Policy Act of 1969, as amended (42 U.S.C. 4231 et seq.), and is published pursuant to 40 CFR 1502.19.

Abigail Ross Hopper,
Director, Bureau of Ocean Energy Management.

[FR Doc. 2016-30930 Filed 12-22-16; 8:45 am]

BILLING CODE P